DEPARTMENT OF HEALTH AND HUMAN SERVICES

National Institutes of Health

NIH Pathways to Prevention Workshop: Methods for Evaluating Natural Experiments in Obesity

AGENCY: National Institutes of Health, HHS.

ACTION: Notice.

SUMMARY: The National Institutes of Health (NIH) will host a workshop about Methods for Evaluating Natural Experiments in Obesity on December 5-6, 2017. The workshop is free and open to the public.

DATES: December 5, 2017 from 8:15 a.m. to 5:15 p.m. and December 6, 2017 from 8:15 a.m. to 1:20 p.m.

ADDRESSES: The workshop will be held at the NIH, Natcher Conference Center, Building 45, 9000 Rockville Pike, Bethesda, Maryland 20892. Registration and workshop information are available on the NIH Office of Disease Prevention (ODP) Web site at https://prevention.nih.gov/P2PObesity.

FOR FURTHER INFORMATION CONTACT: For further information concerning this workshop, contact Kate Winseck at NIHP2P@mail.nih.gov, 6100 Executive Blvd., Room 2B03, MSC 7523, Bethesda, MD 20892-7523; Telephone: 301-827-5561; FAX: 301-480-7660.

SUPPLEMENTARY INFORMATION: Obesity is a major contributor to serious health conditions in children and adults. The prevalence of obesity in the United States and globally has grown rapidly in the last three decades; thus, there is a pressing need to help people achieve and maintain a healthy weight.

Obesity and obesity-related conditions such as type 2 diabetes and certain types of cancers contribute to increased morbidity and mortality across the lifespan, resulting in a significant public health and economic burden. In 2008, the medical costs in the United States for individuals with obesity were $1,429 higher than for those with normal weight, resulting in an estimated annual medical cost of $147 billion (CDC).

Much is already known about obesity, including many of its proximate causes:

• Poor-quality diet

• Overconsumption of calories

• Lack of physical activity

• Excessive sedentary time

However, because multiple factors (lifestyle, socioeconomics, the environment, etc.) contribute to obesity, it remains an exceedingly complex condition to study.

Major gaps exist in our understanding of appropriate and effective societal and systems changes to achieve a healthier energy balance (intake [calories] vs. output [activity]) for individuals. In part, these gaps are related to the amount of research completed to date and to methodological challenges, which range from measuring environmental influences on the causes of obesity to designing and implementing practical and rigorous evaluations of natural experiments. Studies of natural experiments can allow insights into the effects that programs, interventions, or policies have on health-related outcomes including obesity. In obesity prevention research, these include:

• Effects of investments in transportation infrastructure such as light rail or bike share programs

• Changes in the food environment, such as construction of new food retail outlets in food deserts or support for farmers' markets

• Consequences of economic policies such as taxes and subsidies, particularly those addressing low-income and at-risk populations

• Changes within organizations such as schools or workplaces

• Changes in health care systems related to prevention of obesity.

Evaluating natural experiments in obesity prevention has seen growing support and interest. However, incomplete development and lack of standardization in study designs, data collection methods, and statistical approaches present significant challenges to this research. Closing gaps in obesity prevention research has the potential to advance the field and effect change in obesity prevention nationally.

The National Institutes of Health (NIH) is engaging in a rigorous assessment of the available scientific evidence to better understand appropriate, high-quality natural experiment research designs in the field of obesity prevention and control. The NIH Office of Disease Prevention (ODP); National Cancer Institute (NCI); National Heart, Lung, and Blood Institute (NHLBI); and National Institute of Diabetes and Digestive and Kidney Diseases (NIDDK) are sponsoring the Pathways to Prevention Workshop: Methods for Evaluating Natural Experiments in Obesity on December5-6, 2017, in Bethesda, Maryland. The workshop seeks to clarify the following questions:

1. What population-based data sources have been used in studies of how programs, policies, or built environment changes affect or are associated with obesity prevention and control outcomes?

2. What methods have been used to link different population-based data sources?

3. What obesity measures, dietary and physical behaviors, and other outcomes have been assessed in studies of how programs, policies, or built environment changes affect or are associated with obesity prevention and control?

4. Which experimental and non-experimental methods have been used in studies of how programs, policies, or built environment changes affect or are associated with obesity prevention and control outcomes?

5. What are the risks of bias in studies of how programs, policies, or built environment changes affect or are associated with obesity prevention and control outcomes?

6. What methodological/analytic advances (e.g., data system features, approaches to linking data sources, or analytic methods) would help to strengthen efforts to estimate the effect of programs, policies, or built environment changes on obesity prevention and control?

During the 1½-day workshop, experts discuss the state of the science, an evidence report prepared by an Agency for Healthcare Research and Quality Evidence-based Practice Center is presented, and attendees provide comments during open discussion periods. After weighing all evidence, an unbiased, independent panel prepares a draft report that identifies research gaps and future research priorities. The draft report is posted on the ODP Web site for public comment. After reviewing the public comments, the panel prepares a final report, which is also posted on the ODP Web site. The ODP then convenes a Federal Partners Meeting to review the panel report and identify possible opportunities for collaboration.

Please Note: As part of measures to ensure the safety of NIH employees and property, all visitors must be prepared to show a photo ID upon request. Visitors may be required to pass through a metal detector and have bags, backpacks, or purses inspected or X-rayed as they enter the NIH campus. For more information about the security measures at the NIH, please visit http://www.nih.gov/about/visitorsecurity.htm.

Dated: November 15, 2017.
Lawrence A. Tabak,
Deputy Director, National Institutes of Health.

[FR Doc. 2017-25335 Filed 11-22-17; 8:45 am]

BILLING CODE 4140-01-P